DEPARTMENT OF DEFENSE

Department of the Army; Corps of Engineers

Estuary Habitat Restoration Council Meeting

AGENCY: Department of the Army, U.S. Army Corps of Engineers, DoD.

ACTION: Notice of open meeting.

SUMMARY: In accordance with section 105(h) of the Estuary Restoration Act of 2000, (Title I, Pub. L. 106-457), announcement is made of the forthcoming meeting of the Estuary Habitat Restoration Council. The meeting is open to the public.

DATES: The meeting will be held from 10 a.m. to 12 p.m. on Thursday, June 12, 2003.

ADDRESSES: The meeting will be in room 107-A of the U.S. Department of Agriculture's Whitten Building located on Jefferson Drive between 12th and 14th Streets, SW., Washington, DC.

FOR FURTHER INFORMATION CONTACT: Ms. Ellen Cummings, Headquarters, U.S. Army Corps of Engineers, Washington, DC 20314-1000, (202) 761-4558; or Ms. Cynthia Garman-Squier, Office of the Assistant Secretary of the Army (Civil Works), Washington, DC, (703) 695-6791.

SUPPLEMENTARY INFORMATION: The Estuary Habitat Restoration Council consists of representatives of five agencies. These are the National Oceanic and Atmospheric Administration, Environmental Protection Agency, U.S. Fish and Wildlife Service, Department of Agriculture, and Army. Among the duties of the Council is development of a national estuary restoration strategy designed in part to meet the goal of restoring one million acres by 2010.

Items the Council will consider at this meeting include revision of the Council's operating procedures, status reports on the interagency workgroup's review of existing trends information, monitoring data standards, and the process for soliciting proposals for estuary habitat restoration projects.

Current security measures require that persons interested in attending the meeting must pre-register with us before 4 p.m. EDT on Monday, June 9, 2003. Please contact Ellen Cummings at 202-761-4558 to pre-register. When leaving a voice mail message please provide the name of the individual attending, the company or agency represented, and a telephone number, in case there are any questions. All attendees are required to show valid photo identification, such as a government badge or current driver's license. Attendee's bags and other possessions are subject to being searched.

Luz L. Ortiz,
Army Federal Register Liaison Officer.

[FR Doc. 03-13599 Filed 5-29-03; 8:45 am]

BILLING CODE 3710-92-M